DEPARTMENT OF TRANSPORTATION

Federal Aviation Administration

14 CFR Part 71

[Docket No. FAA-2023-1528; Airspace Docket No. 23-ASW-9]

RIN 2120-AA66

Amendment of VOR Federal Airways V-20, V-222, V-289, V-552, V-569 and V-574, and Establishment of United States Area Navigation (RNAV) Routes T-483 and T-485 in the Vicinity of Beaumont, TX

AGENCY: Federal Aviation Administration (FAA), DOT.

ACTION: Final rule.

SUMMARY: This action amends Very High Frequency Omnidirectional Range (VOR) Federal airways V-20, V-222, V-289, V-552, V-569, and V-574, and establishes United States Area Navigation (RNAV) routes T-483 and T-485. The FAA is taking this action due to the planned decommissioning of the VOR portion of the Beaumont, TX (BPT), VOR/Distance Measuring Equipment (VOR/DME) navigational aid (NAVAID). The Beaumont VOR is being decommissioned in support of the FAA's VOR Minimum Operational Network (MON) program.

DATES: Effective date 0901 UTC, March 21, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-1528 in the Federal Register (88 FR 44744; July 13, 2023), proposing to amend VOR Federal airways V-20, V-222, V-289, V-552, V-569, and V-574, and establish United States RNAV routes T-483 and T-485 due to the planned decommissioning of the VOR portion of the Beaumont, TX, VOR/DME NAVAID. Interested parties were invited to participate in this rulemaking effort by submitting written comments on the proposal. No comments were received.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by amending VOR Federal airways V-20, V-222, V-289, V-552, V-569, and V-574, and establishing RNAV routes T-483 and T-485. The ATS route amendments and establishments are due to the planned decommissioning of the VOR portion of the Beaumont, TX, VOR/DME. The ATS route actions are described below.

V-20: Prior to this final rule, V-20 extended between the Mc Allen, TX, VOR/DME and the Palacios, TX, VOR/Tactical Air Navigation (VORTAC); between the Beaumont, TX, VOR/DME and the Montgomery, AL, VORTAC; and between the Athens, GA, VOR/DME and the Richmond, VA, VORTAC. The airspace on the main airway above 14,000 feet MSL from Mc Allen to 49 miles northeast and the airspace within Mexico was excluded. The airway segment between the Beaumont VOR/DME and the Lake Charles, LA, VORTAC is removed. Additionally, the exclusion for the airspace on the main airway above 14,000 feet MSL from Mc Allen to 49 miles northeast is also removed as it has not been required since the V-20 south alternate airway was removed in 1994 and there is no operational requirement to retain it. Further, the exclusion for the airspace within Mexico is removed as the airway does not extend into Mexico's airspace. As amended, the airway now extends between the Mc Allen VOR/DME and the Palacios VORTAC, between the Lake Charles VORTAC and the Montgomery VORTAC, and between the Athens VOR/DME and the Richmond VORTAC.

V-222: Prior to this final rule, V-222 extended between the El Paso, TX, VORTAC and the intersection of the LaGrange, GA, VORTAC 048° and Rome, GA, VORTAC 166° radials (TIROE fix). The airway segment between the Humble, TX, VORTAC and the Lake Charles, LA, VORTAC is removed. As amended, the airway now extends between the El Paso VORTAC and the Humble VORTAC and between the Lake Charles VORTAC and the intersection of the LaGrange VORTAC 048° and Rome VORTAC 166° radials (TIROE fix).

V-289: Prior to this final rule, V-289 extended between the Beaumont, TX, VOR/DME and the Vichy, MO, VOR/DME. The airway segment between the Beaumont VOR/DME and the Lufkin, TX, VORTAC is removed. As amended, the airway now extends between the Lufkin VORTAC and Vichy VOR/DME.

V-552: Prior to this final rule, V-552 extended between the Beaumont, TX, VOR/DME and the Monroeville, AL, VORTAC. The airspace within restricted area R-4403F was excluded during its times of use. The airway segment between the Beaumont VOR/DME and the Lake Charles, LA, VORTAC is removed. As amended, the airway now extends between the Lake Charles VORTAC and the Monroeville VORTAC.

V-569: Prior to this final rule, V-569 extended between the Beaumont, TX, VOR/DME and the Cedar Creek, TX, VORTAC. The airway segment between the Beaumont VOR/DME and the Lufkin, TX, VORTAC is removed. As amended, the airway now extends between the Lufkin VORTAC and the Cedar Creek VORTAC.

V-574: Prior to this final rule, V-574 extended between the Centex, TX, VORTAC and the Lake Charles, LA, VORTAC. The airway segment between the Daisetta, TX, VORTAC and the Lake Charles VORTAC is removed. As amended, the airway now extends between the Centex VORTAC and the Daisetta VORTAC.

T-483: T-483 is established as a RNAV route extending between the SHWNN, TX, waypoint (WP), located near the Beaumont, TX, VOR/DME and the Lufkin, TX, VORTAC. The new T-483 provides mitigation for the removal of the V-289 airway segment between the Beaumont VOR/DME and the Lufkin VORTAC. The full T-483 route description is listed in the amendments to part 71 as set forth below.

T-485: T-485 is established as a RNAV route extending between the SHWNN, TX, WP, located near the Beaumont, TX, VOR/DME and the Lufkin, TX (LFK), VORTAC. The new T-485 provides mitigation for the removal of the V-569 airway segment between the Beaumont VOR/DME and the Lufkin VORTAC. The full T-485 route description is listed in the amendments to part 71 as set forth below.

The NAVAID radials listed in the VOR Federal airway descriptions in The Amendment section below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-20, V-222, V-289, V-552, V-569, and V-574, and establishing RNAV routes T-483 and T-485, due to the planned decommissioning of the VOR portion of the Beaumont, TX, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-20 [Amended]

From Mc Allen, TX; INT Mc Allen 038° and Corpus Christi, TX, 178° radials; 10 miles 8 miles wide, 37 miles 7 miles wide (3 miles E and 4 miles W of centerline), Corpus Christi; INT Corpus Christi 054° and Palacios, TX, 226° radials; to Palacios. From Lake Charles, LA; Lafayette, LA; Reserve, LA; INT Reserve 084° and Gulfport, MS, 247° radials; Gulfport; Semmes, AL; INT Semmes 048° and Monroeville, AL, 231° radials; Monroeville; to Montgomery, AL. From Athens, GA; Electric City, SC; Sugarloaf Mountain, NC; Barretts Mountain, NC; South Boston, VA; to Richmond, VA.

* * * * *

V-222 [Amended]

From El Paso, TX; Salt Flat, TX; Fort Stockton, TX; 20 miles, 116 miles, 55 MSL, Junction, TX; Stonewall, TX; INT Stonewall 113° and Industry, TX, 267° radials; Industry; INT Industry 101° and Humble, TX, 259° radials; to Humble. From Lake Charles, LA; McComb, MS; Eaton, MS; Monroeville, AL; Montgomery, AL; LaGrange, GA; to INT LaGrange 048° and Rome, GA, 166° radials.

* * * * *

V-289 [Amended]

From Lufkin, TX; Gregg County, TX; Texarkana, AR; Fort Smith, AR; Harrison, AR; Dogwood, MO; INT Dogwood 058° and Vichy, MO, 204° radials; to Vichy.

* * * * *

V-552 [Amended]

From Lake Charles, LA; INT Lake Charles 064° and Lafayette, LA, 281° radials; Lafayette; Tibby, LA; Harvey, LA; Picayune, MS; Semmes, AL; INT Semmes 063° and Monroeville, AL, 216° radials; to Monroeville. The airspace within restricted area R-4403F is excluded during its times of use.

* * * * *

V-569 [Amended]

From Lufkin, TX; Frankston, TX; to Cedar Creek, TX.

* * * * *

V-574 [Amended]

From Centex, TX; INT Centex 116° and Navasota, TX, 258° radials; Navasota; Humble, TX; to Daisetta, TX.

* * * * *

Paragraph 6011 United States Area Navigation Routes.

* * * * *

T-483 SHWNN, TX to Lufkin, TX (LFK) [New]
SHWNN, TX | WP | (Lat. 29°56′45.94″ N, long. 094°00′57.73″ W)
HONEE, TX | FIX | (Lat. 30°24′21.96″ N, long. 094°24′59.99″ W)
Lufkin, TX (LFK) | VORTAC | (Lat. 31°09′44.79″ N, long. 094°43′00.60″ W)

* * * * *

T-485 SHWNN, TX to Lufkin, TX (LFK) [New]
SHWNN, TX | WP | (Lat. 29°56′45.94″ N, long. 094°00′57.73″ W)
ROMER, TX | FIX | (Lat. 30°44′47.33″ N, long. 094°23′33.01″ W)
Lufkin, TX (LFK) | VORTAC | (Lat. 31°09′44.79″ N, long. 094°43′00.60″ W)

* * * * *

Issued in Washington, DC, on January 2, 2024.
Frank Lias,
Manager, Rules and Regulations Group.

[FR Doc. 2024-00150 Filed 1-10-24; 8:45 am]

BILLING CODE 4910-13-P